DEPARTMENT OF ENERGY

Federal Energy Regulatory Commission

[Docket No. CP08-33-000]

Dominion Transmission, Inc.; Notice of Availability of the Environmental Assessment for the Proposed Hub I Project

April 28, 2008.

The staff of the Federal Energy Regulatory Commission (FERC or Commission) has prepared an environmental assessment (EA) on the natural gas pipeline and compression facilities proposed by Dominion Transmission, Inc. (Dominion) in the above-referenced docket. Dominion's proposal (the Hub I Project) is to construct a 4,700 horsepower compressor station and about 2.0 miles of 20-inch-diameter pipeline (in two segments) in Westmoreland County, Pennsylvania.

The EA was prepared to satisfy the requirements of the National Environmental Policy Act of 1969. The staff concludes that approval of the proposed project, with appropriate mitigating measures, would not constitute a major federal action significantly affecting the quality of the human environment.

The EA assesses the potential environmental effects of the construction and operation of the proposed Hub I Project. The purpose of the project is to provide about 200 million dekatherms per day (MMDt/d) of service in the summer months and 150 MMDt/d in the winter months.

The EA has been placed in the public files of the FERC. A limited number of copies of the EA are available for distribution and public inspection at: Federal Energy Regulatory Commission, Public Reference Room, 888 First Street, NE., Room 2A, Washington, DC 20426.

Copies of the EA have been mailed to federal, state, and local agencies; newspapers and libraries in the project area; parties to this proceeding; and those who have expressed an interest in this project by returning the January 11, 2008 Notice of Intent to Prepare an Environmental Assessment for the Proposed Hub I Project and Request for Comments on Environmental Issues Mailing List Form.

Any person wishing to comment on the EA may do so. To ensure consideration prior to a Commission decision on the proposal, it is important that we receive your comments as specified below. Please carefully follow these instructions to ensure that your comments are received in time and properly recorded:

• Send an original and two copies of your comments to: Kimberly D. Bose, Secretary, Federal Energy Regulatory Commission, 888 First Street, NE., Room 1A, Washington, DC 20426;

• Label one copy of the comments for the attention of Gas Branch 1, PJ-11.1;

• Reference Docket No. CP08-33-000; and

• Mail your comments so that they will be received in Washington, DC on or before May 28, 2008.

The Commission strongly encourages electronic filing of any comments. See 18 Code of Federal Regulations 385.2001(a)(1)(iii) and the instructions on the Commission's Internet Web site at http://www.ferc.gov under the link to “Documents and Filings” and “e-Filing.” eFiling is a file attachment process and requires that you prepare your submission in the same manner as you would if filing on paper, and save it to a file on your hard drive. New eFiling users must first create an account by clicking on “Sign up” or “eRegister.” You will be asked to select the type of filing you are making. This filing is considered a “Comment on Filing.” In addition, there is a “Quick Comment” option available, which is an easy method for interested persons to submit text only comments on a project. The Quick-Comment user Guide can be viewed at http://www.ferc.gov/docs-filing/efiling/quick-comment-guide.pdf. Quick Comment does not require a FERC eRegistration account; however, you will be asked to provide a valid e-mail address. All comments submitted under either eFiling or the Quick Comment option are placed in the public record for the specified docket or project number(s).

Comments will be considered by the Commission but will not serve to make the commentor a party to the proceeding. Any person seeking to become a party to the proceeding must file a motion to intervene pursuant to Rule 214 of the Commission's Rules of Practice and Procedures (18 CFR 385.214). Only intervenors have the right to seek rehearing of the Commission's decision. Anyone may intervene in this proceeding based on this EA. You must file your request to intervene as specified above.¹ (You do not need intervenor status to have your comments considered).

¹ Interventions may also be filed electronically via the Internet in lieu of paper. See the previous discussion of filing comments electronically.

Additional information about the project is available from the Commission's Office of External Affairs, at 1-866-208-FERC or on the FERC Internet Web site (http://www.ferc.gov) using the eLibrary link. Click on the eLibrary link, click on “General Search” and enter the docket number excluding the last three digits in the docket number field (i.e., CP08-33). Be sure you have selected an appropriate date range. For assistance, please contact FERC Online Support at FERCOnlineSupport@ferc.gov or toll free at 1-866-208-3676, or for TTY, contact (202) 502-8659. The eLibrary link on the FERC Internet Web site also provides access to the texts of formal documents issued by the Commission, such as orders, notices, and rulemakings.

In addition, the Commission now offers a free service called eSubscription which allows you to keep track of all formal issuances and submittals in specific dockets. This can reduce the amount of time you spend researching proceedings by automatically providing you with notifications of these filings, document summaries and direct links to the documents. Go to the eSubscription link on the FERC Internet Web site.

Kimberly D. Bose,
Secretary.

[FR Doc. E8-9809 Filed 5-2-08; 8:45 am]

BILLING CODE 6717-01-P